DEPARTMENT OF ENERGY

Federal Energy Regulatory Commission

[Project No. 7320-042]

Erie Boulevard Hydropower, L.P.; Notice of Application Ready for Environmental Analysis, and Soliciting Comments, Recommendations, Terms and Conditions, and Prescriptions

Take notice that the following hydroelectric application has been filed with the Commission and is available for public inspection.

a. Type of Application: New Major License

b. Project No.: 7320-042

c. Date Filed: July 1, 2013

d. Applicant: Erie Boulevard Hydropower, L.P.

e. Name of Project: Chasm Hydroelectric Project

f. Location: On the Salmon River in Franklin County, New York. The project does not occupy any federal lands.

g. Filed Pursuant to: Federal Power Act, 16 U.S.C. 791 (a)-825(r)

h. Applicant Contact: Steven Murphy, Licensing Manager, Erie Boulevard Hydropower, L.P., 33 West 1st Street South, Fulton, New York, 13069, (315) 598-6130 or email at steven.murphy@brookfieldpower.com.

i. FERC Contact: John Mudre at (202) 502-8902 or email at john.mudre@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-7320-042.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, and is ready for environmental analysis at this time.

l. Project Description: The existing Chasm Project consists of: (1) a 201-foot-long, 32-foot-high maximum height concrete gravity-type dam having a spillway section with crest elevation 1,283.8 feet mean sea level (msl) about 100 feet long, surmounted by 2-foot-high flashboards and having an intake section with steel trash racks and headgates; (2) a reservoir having a surface area of about 22 acres and a gross storage capacity of 74 acre-feet at normal pool elevation of 1,285.8 feet msl; (3) a 7-foot-diameter welded steel pipeline approximately 3,355 feet in length connecting to a 6-foot-diameter steel manifold pipeline just upstream of the powerhouse; (4) a powerhouse containing three Francis-type generating units having a total rated capacity of 3,350 kilowatts operated under a 268-foot head and at a flow of 195 cubic feet per second (cfs); (5) a 20-foot-wide, 850-foot-long tailrace; (6) three 2.2-kilovolt generator leads extending from the powerhouse about 74 feet to an adjacent swithchyard; (7) a 4.2-megavolt-ampere step-up transformer located within the switchyard, connecting to a transmission line owned and operated by the National Grid Corporation; and (8) appurtenant facilities.

Erie proposes a minimum flow of 15 cfs into the bypassed reach at all times and would forego its existing ability to lower the minimum bypass flow to 10 cfs when inflow is less than 85 cfs. In addition, Erie proposes to maintain the impoundment elevation within 0.1 foot of the spillway crest (or flashboards, when installed) when inflow is less than 85 cfs and 0.25 foot when inflow is greater than 85 cfs.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

o. Procedural Schedule: The application will be processed according to the following revised Hydro Licensing Schedule. Revisions to the schedule may be made as appropriate.

Milestone | Target date
Filing of comments, recommendations, terms and conditions, and prescriptions | July 2014
Reply Comments Due | August 2014
Commission Issues Single EA | December 2014
Comments on Single EA due | January 2014

Dated: May 16, 2014.
Kimberly D. Bose,
Secretary.

[FR Doc. 2014-11864 Filed 5-21-14; 8:45 am]

BILLING CODE 6717-01-P